DEPARTMENT OF DEFENSE

Department of the Air Force

Air Force Special Operations Command Assets Beddown, Cannon Air Force Base, NM

AGENCY: Department of the Air Force, DOD.

ACTION: Record of Decision.

SUMMARY: On August 20, 2007, the United States Air Force signed the Record of Decision (ROD) for the Air Force Special Operations Command Assets Beddown at Cannon Air Force Base (AFB), New Mexico. The ROD states the Air Force decision to implement the Preferred Alternative (East West Airfield Alternative at Cannon AFB, the Two Target Alternative at Melrose Air Force Range, and the use of Cannon scheduled airspace).

The decision was based on matters discussed in the Final Environmental Impact Statement (EIS), inputs from the public and regulatory agencies, and other relevant factors. The Final EIS was made available on July 20, 2007 in the Federal Register (Volume 72, Number 139, Page 39808) with a wait period ending August 20, 2007. The ROD documents only the decision of the Air Force with respect to the proposed Air Force actions analyzed in the Final EIS.

FOR FURTHER INFORMATION CONTACT: Mr. Carl T. Hoffman, Headquarters Air Force Special Operations Command/A7PP, Hurlburt Field, FL, 32544-5434 or call (850) 884-5984.

Bao-Anh Trinh,
Air Force Federal Register Liaison Officer.

[FR Doc. E7-17515 Filed 9-4-07; 8:45 am]

BILLING CODE 5001-05-P